ENVIRONMENTAL PROTECTION AGENCY

[EPA-HQ-OAR-2003-0052; FRL—9982-93-OLEM]

Proposed Information Collection Request; Comment Request; Risk Management Program Requirements and Petitions To Modify the List of Regulated Substances Under Section 112(r) of the Clean Air Act (CAA); EPA ICR Number 1656.16, OMB Control Number 2050-0114

AGENCY: Environmental Protection Agency (EPA).

ACTION: Notice.

SUMMARY: The Environmental Protection Agency (EPA) is planning to submit an information collection request (ICR), “Risk Management Program Requirements and Petitions to Modify the List of Regulated Substances under section 112(r) of the Clean Air Act (CAA)”, EPA ICR No. 1656.16, OMB Control No. 2050-0144 to the Office of Management and Budget (OMB) for review and approval in accordance with the Paperwork Reduction Act. Before doing so, EPA is soliciting public comments on specific aspects of the proposed information collection as described below. This is a proposed extension of the ICR, which is currently approved through January 31, 2019. An Agency may not conduct or sponsor and a person is not required to respond to a collection of information unless it displays a currently valid OMB control number.

DATES: Comments must be submitted on or before November 13, 2018.

ADDRESSES: Submit your comments, referencing Docket ID No. EPA-HQ-OAR-2003-0052, online using www.regulations.gov (our preferred method), by email to superfund.docket@epa.gov or by mail to: EPA Docket Center, Environmental Protection Agency, Mail Code 28221T, 1200 Pennsylvania Ave. NW, Washington, DC 20460, and (2) OMB via email to oira_submission@omb.eop.gov. Address comments to OMB Desk Officer for EPA.

EPA's policy is that all comments received will be included in the public docket without change including any personal information provided, unless the comment includes profanity, threats, information claimed to be Confidential Business Information (CBI) or other information whose disclosure is restricted by statute.

FOR FURTHER INFORMATION CONTACT: Wendy Hoffman, Office of Emergency Management, Mail Code 5104A, Environmental Protection Agency, 1200 Pennsylvania Ave. NW, Washington, DC 20460; telephone number: (202) 564-8794; fax number: (202) 564-2625; email address: hoffman.wendy@epa.gov.

SUPPLEMENTARY INFORMATION: Supporting documents which explain in detail the information that the EPA will be collecting are available in the public docket for this ICR. The docket can be viewed online at www.regulations.gov or in person at the EPA Docket Center, WJC West, Room 3334, 1301 Constitution Ave. NW, Washington, DC. The telephone number for the Docket Center is 202-566-1744. For additional information about EPA's public docket, visit http://www.epa.gov/dockets.

Pursuant to section 3506(c)(2)(A) of the PRA, EPA is soliciting comments and information to enable it to: (i) Evaluate whether the proposed collection of information is necessary for the proper performance of the functions of the Agency, including whether the information will have practical utility; (ii) evaluate the accuracy of the Agency's estimate of the burden of the proposed collection of information, including the validity of the methodology and assumptions used; (iii) enhance the quality, utility, and clarity of the information to be collected; and (iv) minimize the burden of the collection of information on those who are to respond, including through the use of appropriate automated electronic, mechanical, or other technological collection techniques or other forms of information technology, e.g., permitting electronic submission of responses. EPA will consider the comments received and amend the ICR as appropriate. The final ICR package will then be submitted to OMB for review and approval. At that time, EPA will issue another Federal Register notice to announce the submission of the ICR to OMB and the opportunity to submit additional comments to OMB. Abstract: The authority for these requirements is section 112(r) of the 1990 CAA Amendments, which provides for the prevention and mitigation of accidental releases. Section 112(r) mandates that EPA promulgate a list of “regulated substances” with threshold quantities and establish procedures for the addition and deletion of substances from the list of regulated substances. Processes at stationary sources that contain more than a threshold quantity of a regulated substance are subject to accidental release prevention regulations promulgated under CAA section 112(r)(7). These two rules are codified as 40 CFR part 68.

Part 68 requires that sources with more than a threshold quantity of a regulated substance in a process develop and implement a risk management program and submit a risk management plan (RMP) to EPA. EPA uses RMPs to conduct oversight of regulated sources, and to communicate information concerning them to federal, state, and local agencies and the public, as appropriate.

The compliance schedule for the part 68 requirements was established by rule on June 20, 1996. The burden to sources that are currently covered by part 68, for initial rule compliance, including rule familiarization and program implementation was accounted for in previous ICRs. Sources submitted their first RMPs by June 21, 1999. For most sources, the next compliance deadlines occurred (and will occur) thereafter at five-year intervals—in 2004, 2009, 2014 and 2019. Therefore, resubmissions tend to occur in “waves” peaking each fifth year. A source submitting an RMP update to comply with its five-year compliance deadline will often submit its updated RMP several days or weeks early to ensure it is received by EPA before its deadline, and other sources revised and resubmitted their RMPs between the five-year deadlines because of changes occurring at the source that triggered an earlier resubmission. These sources were then assigned a new five-year compliance deadline based on the date of their most recent revised plan submission. However, because most sources are not required to resubmit earlier than their five-year compliance deadline, the next RMP submission deadline for most sources occurs in 2019. The remaining sources have been assigned a different deadline in 2020, 2021, 2022 or 2023, based on the date of their most recent submission. Only the first three years are within the period covered by this ICR.

In this ICR, EPA has accounted for burden for new sources that may become subject to the regulations, currently covered sources with compliance deadlines in this ICR period (2019 to 2021), sources that are out of compliance since the last regulatory deadline but are expected to comply during this ICR period, and sources that have deadlines beyond this ICR period but are required to comply with certain prevention program documentation requirements during this ICR period.

Form Numbers: Risk Management Plan Form: EPA Form 8700-25; CBI Substantiation Form: EPA Form 8700-27; CBI Unsanitized Data Element Form: EPA Form 8700-28.

Respondents/affected entities: Entities potentially affected by this action are chemical manufacturers, petroleum refineries, water treatment systems, agricultural chemical distributors, refrigerated warehouses, chemical distributors, non-chemical manufacturers, wholesale fuel distributors, energy generation facilities, etc.

Respondent's obligation to respond: Mandatory (40 CFR part 68).

Estimated number of respondents: 12,500 (total). This figure will be updated as needed during the 60-day OMB review period.

Frequency of response: Sources must resubmit RMPs at least every five years and update certain on-site documentation more frequently.

Total estimated burden: 80,546 hours (per year). This figure will be updated as needed during the 60-day OMB review period. Burden is defined at 5 CFR 1320.03(b).

Total estimated cost: $6,736,212 (per year), includes $0 annualized capital or operation maintenance costs. This figure will be updated with most recent available wage rates from BLS and to account for any changes in O&M costs, burden and number of respondents.

Changes in estimates: The above burden estimates are based on the current approved ICR. In the final notice for the renewed ICR, EPA will publish revised burden estimates based on updates to respondent data and unit costs. The revised burden estimates may increase from the current ICR, because the new ICR period will include a five-year reporting cycle year, whereas the current approved ICR period did not include a five-year reporting cycle year. Any change in burden will be described and explained in this section when the updated ICR Supporting Statement is completed during the 60-day OMB review period.

Dated: August 20, 2018.
Reggie Cheatham,
Director, Office of Emergency Management.

[FR Doc. 2018-19770 Filed 9-10-18; 8:45 am]

BILLING CODE 6560-50-P